DEPARTMENT OF AGRICULTURE

Forest Service

Information Collection: Forest Service Pilot and Aircraft Record Forms

AGENCY: Forest Service, USDA.

ACTION: Notice; request for comment; correction.

SUMMARY: The Forest Service published a document in the Federal Register on July 20, 2021, concerning request for comments on a renewal with revisions of a currently approved information collection. The document contained an incorrect telephone number with updated contact information and text:

ADDRESSES:

• Email: paul.linse@usda.gov.

• Telephone: 202-557-1545.

• Mail: Paul Linse, Assistant Director Aviation, Fire and Aviation Management, USDA Forest Service, 1400 Independence Avenue SW, Mailstop 1107, Washington DC 20250-1107.

• Hand Delivery/Courier: Paul Linse, Assistant Director Aviation, USDA Forest Service, Fire and Aviation Management, 1400 Independence Avenue SW, Mailstop 1107, Washington DC 20250-1107.

The public may inspect comments received at USDA Forest Service, Fire and Aviation Management, 1400 Independence Avenue SW, Washington DC 20250, during normal business hours. Visitors are encouraged to call ahead to 202-205-1483 to facilitate entry into the building.

Correction

In the Federal Register of July 20, 2021, in FR Doc. 2021, Vol. 86, No. 136, on page 38265, in the third column, correct under the ADDRESSES caption to read:

• Email: paul.linse@usda.gov.

• Telephone: 202-205-1410.

• Mail: John Nelson, Airworthiness Branch Chief, Fire and Aviation Management, USDA Forest Service, National Interagency Fire Center, 3833 South Development Avenue, Boise, ID 83705.

• Hand Delivery/Courier: John Nelson, Airworthiness Branch Chief, Fire and Aviation Management, USDA Forest Service, National Interagency Fire Center, 3833 South Development Avenue, Boise, ID 83705.

The public may inspect comments received at USDA Forest Service, Fire and Aviation Management, USDA Forest Service, National Interagency Fire Center, 3833 South Development Avenue, Boise, ID 83705, during normal business hours. Visitors are encouraged to call ahead to 208-387-5356 to facilitate entry into the building.

FOR FURTHER INFORMATION CONTACT: Paul Linse, Assistant Director Aviation, Fire and Aviation Management, 202-205-1410. Individuals who use telecommunication devices for the deaf (TDD) may call the Federal Relay Service (FRS) at 1-800-877-8339 twenty-four hours a day, every day of the year, including holidays

Correction: On page 38265, in the third column, correct under the FOR FURTHER INFORMATION CONTACT caption to read:

FOR FURTHER INFORMATION CONTACT: Paul Linse, Assistant Director Aviation, Fire and Aviation Management, 202-205-1410. Individuals who use telecommunication devices for the deaf (TDD) may call the Federal Relay Service (FRS) at 1-800-877-8339 twenty-four hours a day, every day of the year, including holidays.

Jaelith Rivera,
Acting Deputy Chief, State & Private Forestry.

[FR Doc. 2021-16322 Filed 7-29-21; 8:45 am]

BILLING CODE 3411-15-P